DEPARTMENT OF ENERGY

Federal Energy Regulatory Commission

Combined Notice of Filings #1

Take notice that the Commission received the following exempt wholesale generator filings:

Docket Numbers: EG21-16-000.

Applicants: Todd Solar LLC.

Description: Notice of Self-Certification of Exempt Wholesale Generator Status of Todd Solar LLC.

Filed Date: 10/30/20.

Accession Number: 20201030-5144.

Comments Due: 5 p.m. ET 11/20/20.

Docket Numbers: EG21-17-000.

Applicants: Groton Station Fuel Cell, LLC.

Description: Notice of Self-Certification of Exempt Wholesale Generator Status of Groton Station Fuel Cell, LLC.

Filed Date: 10/30/20.

Accession Number: 20201030-5165.

Comments Due: 5 p.m. ET 11/20/20.

Docket Numbers: EG21-18-000.

Applicants: Yards Creek Energy, LLC.

Description: Notice of Self-Recertification of Exempt Wholesale Generator Status.

Filed Date: 10/30/20.

Accession Number: 20201030-5296.

Comments Due: 5 p.m. ET 11/20/20.

Take notice that the Commission received the following electric rate filings:

Docket Numbers: ER15-2589-003.

Applicants: CPV Shore, LLC.

Description: Compliance filing: Informational Filing Regarding Planned Transfer to be effective N/A.

Filed Date: 10/29/20.

Accession Number: 20201029-5191.

Comments Due: 5 p.m. ET 11/19/20.

Docket Numbers: ER17-481-005.

Applicants: CPV Maryland, LLC.

Description: Compliance filing: Informational Filing Regarding Planned Transfer to be effective N/A.

Filed Date: 10/29/20.

Accession Number: 20201029-5187.

Comments Due: 5 p.m. ET 11/19/20.

Docket Numbers: ER20-287-004.

Applicants: CPV Fairview, LLC.

Description: Compliance filing: Informational Filing Regarding Planned Transfer to be effective N/A.

Filed Date: 10/29/20.

Accession Number: 20201029-5185.

Comments Due: 5 p.m. ET 11/19/20.

Docket Numbers: ER20-2283-001.

Applicants: Midcontinent Independent System Operator, Inc.

Description: Compliance filing: 2020-10-30_SA 3517 Deficiency Response NSP-MDU FSA (J316) to be effective 7/1/2020.

Filed Date: 10/30/20.

Accession Number: 20201030-5152.

Comments Due: 5 p.m. ET 11/20/20.

Docket Numbers: ER20-2712-001.

Applicants: Southwest Power Pool, Inc.

Description: Tariff Amendment: Amended Filing—City Utilities of Springfield, Missouri Formula Rate to be effective 12/1/2020.

Filed Date: 10/29/20.

Accession Number: 20201029-5199.

Comments Due: 5 p.m. ET 11/9/20.

Docket Numbers: ER20-2839-000.

Applicants: Inova Energy LLC.

Description: Application for Authorization Under Section 203 of the Federal Power Act, et al. of RE Slate 1 LLC; and also submitted a Second Amendment [Asset Appendix] to September 9, 2020 Inova Energy LLC tariff filing.

Filed Date: 10/27/20.

Accession Number: 20201002-5193, 20201027-5209.

Comments Due: 5 p.m. ET 11/17/20.

Docket Numbers: ER21-251-000.

Applicants: Degrees3 Transportation Solutions, LLC.

Description: Baseline eTariff Filing: Baseline New to be effective 10/30/2020.

Filed Date: 10/29/20.

Accession Number: 20201029-5182.

Comments Due: 5 p.m. ET 11/19/20.

Docket Numbers: ER21-252-000.

Applicants: Duke Energy Florida, LLC.

Description: § 205(d) Rate Filing: Revised DEF Rate Schedule No. 226 (Seminole Electric Cooperative, Inc.) to be effective 1/1/2021.

Filed Date: 10/29/20.

Accession Number: 20201029-5193.

Comments Due: 5 p.m. ET 11/19/20.

Docket Numbers: ER21-253-000.

Applicants: Monongahela Power Company, The Potomac Edison Company, West Penn Power Company, PJM Interconnection, L.L.C.

Description: § 205(d) Rate Filing: SFC submits revision to PJM Tariff re: NITS Rate to be effective 1/1/2021.

Filed Date: 10/29/20.

Accession Number: 20201029-5196.

Comments Due: 5 p.m. ET 11/19/20.

Docket Numbers: ER21-254-000.

Applicants: Harmony Florida Solar, LLC.

Description: Baseline eTariff Filing: Harmony Florida Solar, LLC Application for MBR Authority to be effective 10/30/2020.

Filed Date: 10/30/20.

Accession Number: 20201030-5001.

Comments Due: 5 p.m. ET 11/20/20.

Docket Numbers: ER21-255-000.

Applicants: Taylor Creek Solar, LLC.

Description: Baseline eTariff Filing: Taylor Creek Solar, LLC Application for MBR Authority to be effective 10/30/2020.

Filed Date: 10/30/20.

Accession Number: 20201030-5003.

Comments Due: 5 p.m. ET 11/20/20.

Docket Numbers: ER21-256-000.

Applicants: Vermont Transco LLC.

Description: Notice of Cancellation of Rate Schedule No. 2 of Vermont Transco LLC under ER21-256.

Filed Date: 10/29/20.

Accession Number: 20201029-5220.

Comments Due: 5 p.m. ET 11/19/20.

Docket Numbers: ER21-257-000.

Applicants: PJM Interconnection, L.L.C.

Description: § 205(d) Rate Filing: 3rd Quarter 2020 Update to OA and RAA Membership Lists to be effective 9/30/2020.

Filed Date: 10/30/20.

Accession Number: 20201030-5035.

Comments Due: 5 p.m. ET 11/20/20.

Docket Numbers: ER21-258-000.

Applicants: Todd Solar LLC.

Description: Baseline eTariff Filing: Application for Market-Based Rate Authorization to be effective 12/30/2020.

Filed Date: 10/30/20.

Accession Number: 20201030-5039.

Comments Due: 5 p.m. ET 11/20/20.

Docket Numbers: ER21-259-000.

Applicants: Southwest Power Pool, Inc.

Description: § 205(d) Rate Filing: 1876R6 KEPCO NITSA NOA to be effective 10/1/2020.

Filed Date: 10/30/20.

Accession Number: 20201030-5040.

Comments Due: 5 p.m. ET 11/20/20.

Docket Numbers: ER21-260-000.

Applicants: New England Power Pool Participants Committee.

Description: § 205(d) Rate Filing: November 2020 Membership Filing to be effective 11/1/2020.

Filed Date: 10/30/20.

Accession Number: 20201030-5045.

Comments Due: 5 p.m. ET 11/20/20.

Docket Numbers: ER21-261-000.

Applicants: Southern California Edison Company.

Description: § 205(d) Rate Filing: SCE 2021 TRBAA Update to be effective 1/1/2021.

Filed Date: 10/30/20.

Accession Number: 20201030-5051.

Comments Due: 5 p.m. ET 11/20/20.

Docket Numbers: ER21-262-000.

Applicants: Midcontinent Independent System Operator, Inc.

Description: § 205(d) Rate Filing: 2020-10-30_MISO TOs Att O Filing re Schedule 50 to be effective 1/1/2021.

Filed Date: 10/30/20.

Accession Number: 20201030-5101.

Comments Due: 5 p.m. ET 11/20/20.

Docket Numbers: ER21-263-000.

Applicants: Startrans IO, LLC.

Description: § 205(d) Rate Filing: Startrans IO Annual TRR TRBAA Update to be effective 1/1/2021.

Filed Date: 10/30/20.

Accession Number: 20201030-5105.

Comments Due: 5 p.m. ET 11/20/20.

Docket Numbers: ER21-264-000.

Applicants: California Power Exchange Corporation.

Description: § 205(d) Rate Filing: Rate Filing for Rate Period 38 to be effective 1/1/2021.

Filed Date: 10/30/20.

Accession Number: 20201030-5108.

Comments Due: 5 p.m. ET 11/20/20.

Docket Numbers: ER21-265-000.

Applicants: PJM Interconnection, L.L.C.

Description: § 205(d) Rate Filing: Keystone Appalachian Transmission Company submits Revisions to PJM Tariff to be effective 1/1/2021.

Filed Date: 10/30/20.

Accession Number: 20201030-5117.

Comments Due: 5 p.m. ET 11/20/20.

Docket Numbers: ER21-266-000.

Applicants: Southern California Edison Company.

Description: § 205(d) Rate Filing: 2021 RSBAA Update Filing to be effective 1/1/2021.

Filed Date: 10/30/20.

Accession Number: 20201030-5137.

Comments Due: 5 p.m. ET 11/20/20.

Docket Numbers: ER21-267-000.

Applicants: Gulf Power Company.

Description: Tariff Cancellation: Cancellation of Gulf Power Market-Based Rate Agreements to be effective 12/31/2019.

Filed Date: 10/30/20.

Accession Number: 20201030-5146.

Comments Due: 5 p.m. ET 11/20/20.

Docket Numbers: ER21-268-000.

Applicants: Gulf Power Company.

Description: Tariff Cancellation: Cancellation of Market-Based Rate Tariff to be effective 12/31/9998.

Filed Date: 10/30/20.

Accession Number: 20201030-5148.

Comments Due: 5 p.m. ET 11/20/20.

Docket Numbers: ER21-269-000.

Applicants: Tri-State Generation and Transmission Association, Inc.

Description: § 205(d) Rate Filing: Service Agreement No. 889 between Tri-State and PacifiCorp to be effective 10/28/2020.

Filed Date: 10/30/20.

Accession Number: 20201030-5150.

Comments Due: 5 p.m. ET 11/20/20.

Docket Numbers: ER21-270-000.

Applicants: Arizona Public Service Company.

Description: Tariff Cancellation: Service Agreement No. 216—Notice of Cancellation to be effective 12/31/2020.

Filed Date: 10/30/20.

Accession Number: 20201030-5151.

Comments Due: 5 p.m. ET 11/20/20.

Docket Numbers: ER21-271-000.

Applicants: Southwestern Public Service Company.

Description: § 205(d) Rate Filing: SPP Schedule 1A to be effective 1/1/2021.

Filed Date: 10/30/20.

Accession Number: 20201030-5163.

Comments Due: 5 p.m. ET 11/20/20.

Docket Numbers: ER21-272-000.

Applicants: Otter Tail Power Company.

Description: § 205(d) Rate Filing: Revisions to Operating Services Agreement with CPEC, Service Agreement No. 54 to be effective 1/1/2021.

Filed Date: 10/30/20.

Accession Number: 20201030-5168.

Comments Due: 5 p.m. ET 11/20/20.

Docket Numbers: ER21-273-000.

Applicants: Florida Power & Light Company.

Description: § 205(d) Rate Filing: Florida Power & Light Company, LLC Revised Market-Based Rate Tariff to be effective 12/31/9998.

Filed Date: 10/30/20.

Accession Number: 20201030-5179.

Comments Due: 5 p.m. ET 11/20/20.

Docket Numbers: ER21-274-000.

Applicants: PJM Interconnection, L.L.C.

Description: § 205(d) Rate Filing: Changes to Administrative Charge Refund Provisions to be effective 11/1/2020.

Filed Date: 10/30/20.

Accession Number: 20201030-5188.

Comments Due: 5 p.m. ET 11/20/20.

Docket Numbers: ER21-275-000.

Applicants: Duke Energy Progress, LLC.

Description: § 205(d) Rate Filing: DEP-City of Camden NITSA SA No. 309 to be effective 1/1/2021.

Filed Date: 10/30/20.

Accession Number: 20201030-5189.

Comments Due: 5 p.m. ET 11/20/20.

Docket Numbers: ER21-276-000.

Applicants: Georgia Power Company.

Description: Compliance filing: FP&L and JEA Scherer Unit 4 TSAs Order No. 864 Compliance Filing to be effective 1/27/2020.

Filed Date: 10/30/20.

Accession Number: 20201030-5190.

Comments Due: 5 p.m. ET 11/20/20.

Docket Numbers: ER21-277-000.

Applicants: Avista Corporation.

Description: § 205(d) Rate Filing: Avista Corp NITSA SA T-1098 Low Voltage Charges to be effective 12/1/2020.

Filed Date: 10/30/20.

Accession Number: 20201030-5209.

Comments Due: 5 p.m. ET 11/20/20.

Docket Numbers: ER21-278-000.

Applicants: PJM Interconnection, L.L.C.

Description: § 205(d) Rate Filing: Effective Load Carrying Capability Construct to be effective 1/1/2021.

Filed Date: 10/30/20.

Accession Number: 20201030-5238.

Comments Due: 5 p.m. ET 11/20/20.

Docket Numbers: ER21-279-000.

Applicants: Public Service Company of Colorado.

Description: § 205(d) Rate Filing: PSCo Reserve Filing to be effective 1/1/2021.

Filed Date: 10/30/20.

Accession Number: 20201030-5255.

Comments Due: 5 p.m. ET 11/20/20.

Docket Numbers: ER21-280-000.

Applicants: CO Buffalo Flats, LLC.

Description: § 205(d) Rate Filing: CO Buffalo Flats, LLC Market-Based Rate Tariff to be effective 10/31/2020.

Filed Date: 10/30/20.

Accession Number: 20201030-5260.

Comments Due: 5 p.m. ET 11/20/20.

Docket Numbers: ER21-281-000.

Applicants: MidAmerican Energy Company.

Description: § 205(d) Rate Filing: Services Tariff v. 2—Revised to be effective 1/1/2021.

Filed Date: 10/30/20.

Accession Number: 20201030-5261.

Comments Due: 5 p.m. ET 11/20/20.

Docket Numbers: ER21-282-000.

Applicants: DATC Path 15, LLC.

Description: § 205(d) Rate Filing: Appendix I 2021 to be effective 1/1/2021.

Filed Date: 10/30/20.

Accession Number: 20201030-5240.

Comments Due: 5 p.m. ET 11/20/20.

Docket Numbers: ER21-283-000.

Applicants: Hillcrest Solar I, LLC.

Description: Baseline eTariff Filing: Baseline new to be effective 2/27/2021.

Filed Date: 10/30/20.

Accession Number: 20201030-5266.

Comments Due: 5 p.m. ET 11/20/20.

Docket Numbers: ER21-284-000.

Applicants: Groton Station Fuel Cell, LLC.

Description: Baseline eTariff Filing: Baseline new to be effective 12/1/2020.

Filed Date: 10/30/20.

Accession Number: 20201030-5283.

Comments Due: 5 p.m. ET 11/20/20.

Docket Numbers: ER21-285-000.

Applicants: Sigurd Solar LLC.

Description: Baseline eTariff Filing: Application for Market-Based Rate Authorization to be effective 12/30/2020.

Filed Date: 10/30/20.

Accession Number: 20201030-5292.

Comments Due: 5 p.m. ET 11/20/20.

Docket Numbers: ER21-286-000.

Applicants: Duke Energy Carolinas, LLC.

Description: § 205(d) Rate Filing: DEC- Dynamic Transfer Agmt DEP, Carolina Power Partners, Camden RS No. 558 to be effective 1/1/2021.

Filed Date: 10/30/20.

Accession Number: 20201030-5295.

Comments Due: 5 p.m. ET 11/20/20.

Docket Numbers: ER21-287-000.

Applicants: Pacific Gas and Electric Company.

Description: § 205(d) Rate Filing: Amendment to Extend Port of Oakland (TO SA 4) to be effective 1/1/2021.

Filed Date: 10/30/20.

Accession Number: 20201030-5299.

Comments Due: 5 p.m. ET 11/20/20.

Docket Numbers: ER21-288-000.

Applicants: AMP Transmission, LLC, PJM Interconnection, L.L.C.

Description: § 205(d) Rate Filing: AMPT submits Revisions to PJM Tariff, Att. H-32A to be effective 1/1/2021.

Filed Date: 10/30/20.

Accession Number: 20201030-5304.

Comments Due: 5 p.m. ET 11/20/20.

Docket Numbers: ER21-289-000.

Applicants: Duke Energy Florida, LLC.

Description: § 205(d) Rate Filing: DEF-City of Alachua NITSA SA No. 305 to be effective 10/1/2020.

Filed Date: 10/30/20.

Accession Number: 20201030-5323.

Comments Due: 5 p.m. ET 11/20/20.

Take notice that the Commission received the following electric reliability filings:

Docket Numbers: RD21-1-000.

Applicants: North American Electric Reliability Corporation, Western Electric Coordinating Council.

Description: Joint Petition of the North American Electric Reliability Corporation and Western Electricity Coordinating Council for approval of Proposed Reliability Standard PRC-006-5.

Filed Date: 10/27/20.

Accession Number: 20201027-5233.

Comments Due: 5 p.m. ET 11/27/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 30, 2020.
Nathaniel J. Davis, Sr.,
Deputy Secretary.

[FR Doc. 2020-24546 Filed 11-4-20; 8:45 am]

BILLING CODE 6717-01-P